DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with January anniversary dates. In accordance with Commerce's regulations, we are initiating those administrative reviews.

DATES: Applicable March 14, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with January anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, except for the administrative review of the AD order on wooden bedroom furniture from the People's Republic of China (China), Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Wooden Bedroom Furniture From China

In the event that Commerce limits the number of respondents individually examined in the administrative review of the AD order on wooden bedroom furniture from China, for purposes of the January 1, 2022, through December 31, 2022, POR, Commerce intends to select respondents based on volume data contained in responses to a Q&V Questionnaire. All parties under review are hereby notified that they must timely respond to the Q&V Questionnaire. Commerce's Q&V Questionnaire, along with certain additional questions, will be available in a document package at https://access.trade.gov/Resources/prc-WBF-document-Package.pdf on the date that this notice is published in the Federal Register. Responses to the Q&V Questionnaire must be filed with the respondents' Separate Rate Application or Separate Rate Certification (see the Separate Rates section below) and their responses to the additional questions, and must be received by Commerce by no later than 30 days after publication of this notice in the Federal Register. Please be advised that due to the time constraints imposed by the statutory and regulatory deadlines for completing AD administrative reviews, Commerce does not intend to grant any extensions for the submission of responses to the Q&V Questionnaire.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative review of the AD order on wooden bedroom furniture from China, must complete, as appropriate, either a Separate Rate Application or Certification, and respond to the additional questions and the Q&V Questionnaire at https://access.trade.gov/Resources/prc-WBF-document-Package.pdf.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice.

For the administrative review of the AD order on wooden bedroom furniture from China, Separate Rate Certifications, as well as a response to the additional questions and the Q&V Questionnaire in the document package, are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. For the administrative review of the AD order on wooden bedroom furniture from China, Separate Rate Applications, as well as a response to the additional questions and the Q&V Questionnaire in the document package, are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Furthermore, this notice constitutes public notification to all firms for which an administrative review of the AD order on wooden bedroom furniture from China has been requested, that are seeking separate rate status in the review, that they must submit a timely Separate Rate Application or Certification (as appropriate) as described above, and a timely response to the additional questions and the Q&V Questionnaire in the document package in order to receive consideration for separate-rate status. In other words, Commerce will not give consideration to any timely Separate Rate Application or Certification made by parties who failed to respond in a timely manner to the additional questions and the Q&V Questionnaire. All information submitted by respondents in the administrative review of the AD order on wooden bedroom furniture from China is subject to verification. As noted above, the Separate Rate Application and the Separate Rate Certification will be available on Commerce's website and the additional questions and the Q&V Questionnaire will be available at https://access.trade.gov/Resources/prc-WBF-document-Package.pdf on the date of publication of this notice in the Federal Register.

Initiation of Reviews

In accordance with 19 CFR 351.221(c)(1)(i), we are initiating administrative reviews of the following AD and CVD orders and findings. We intend to issue the final results of these reviews not later than January 31, 2023.

| Period to be reviewed
AD Proceedings
CANADA: Softwood Lumber, A-122-857 | 1/1/22-12/31/22
10104704 Manitoba Ltd O/A Woodstock Forest Product
1074712 BC Ltd.; Quadra Cedar
5214875 Manitoba Ltd.
54 Reman
752615 B.C Ltd, Fraserview Remanufacturing Inc, DBA Fraserview Cedar Products.
9224-5737 Quebec Inc. (a.k.a. A.G. Bois)
AA Trading Ltd.
Absolute Lumber Products Ltd.
Adwood Manufacturing Ltd.
AJ Forest Products Ltd.
Aler Forest Products Ltd.
All American Forest Products Inc.
Alpa Lumber Mills Inc.
Andersen Pacific Forest Products Ltd.
Anglo American Cedar Products Ltd.; Anglo-American Cedar Products Ltd.
Antrim Cedar Corporation
Aquila Cedar Products Ltd.
Arbec Lumber Inc.; Arbec Bois Doeuvre Inc.
Aspen Pacific Industries Inc.
Aspen Planers Ltd.
B&L Forest Products Ltd.
B.B. Pallets Inc.; Les Palettes B.B. Inc.
Babine Forest Products Limited
Bakerview Forest Products Inc.
Bardobec Inc.
Barrette-Chapais Ltee
BarretteWood Inc.
Benoît & Dionne Produits Forestiers Ltee; Benoît & Dionne Forest Products Ltd.
Best Quality Cedar Products Ltd.
Blanchet Multi Concept Inc.
Blanchette & Blanchette Inc.
Bois Aise de Montreal Inc.
Bois Bonsaï Inc.
Bois Daaquam Inc.; Daaquam Lumber Inc.
Bois D'oeuvre Cedrico Inc.; Cedrico Lumber Inc.
Bois et Solutions Marketing SPEC, Inc.; SPEC Wood & Marketing Solution; SPEC Wood and Marketing Solutions Inc.
Bois Weedon Inc.
Boisaco Inc.
Boscus Canada Inc.
Boucher Bros. Lumber Ltd.
BPWood Ltd.
Bramwood Forest Inc.
Brink Forest Products Ltd.
Brunswick Valley Lumber Inc.
Burrows Lumber (CD) Ltd., Theo A. Burrows Lumber Company Limited
Busque & Laflamme Inc.
Campbell River Shake & Shingle Co. Ltd.
Canada Pallet Corp.
Canadian Bavarian Millwork & Lumber Ltd.
Canadian Forest Products Ltd.; Canfor Wood Products Marketing Ltd.; Canfor Corporation
Canasia Forest Industries Ltd.
Canyon Lumber Company Ltd.
Careau Bois inc.
CarlWood Lumber Ltd.
Carrier & Begin Inc.
Carrier Forest Products Ltd.
Carrier Lumber Ltd.
Carter Forest Products Inc.
Cedar Island Forest Products Ltd.
Cedar Valley Holdings Ltd.
Cedarcoast Lumber Products
Cedarland Forest Products Ltd.
Cedarline Industries Ltd.
Central Alberta Pallet Supply
Central Cedar Ltd.
Central Forest Products Inc.
Centurion Lumber Ltd.
Chaleur Forest Products Inc.
Chaleur Forest Products LP
Channel-ex Trading Corporation
CHAP Alliance, Inc.
Clair Industrial Development Corp. Ltd.
Clermond Hamel Ltee
CLG Enterprises Inc.
CNH Products Inc.
Coast Clear Wood Ltd.
Coast Mountain Cedar Products Ltd.
Columbia River Shake & Shingle Ltd./Teal Cedar Products Ltd., DBA the Teal Jones Group.
Commonwealth Plywood Co. Ltd.
Comox Valley Shakes Ltd. (2019); A.K.A. Comox Valley Shakes (2019) Ltd.
Conifex Fibre Marketing Inc.
Coulson Manufacturing Ltd.
Cowichan Lumber Ltd.
CS Manufacturing Inc. (dba Cedarshed)
CWP—Industriel Inc.
CWP—Montreal Inc.
D & D Pallets Ltd.
Dakeryn Industries Ltd.
Decker Lake Forest Products Ltd.
Deep Cove Forest Products, Inc.
Delco Forest Products Ltd.
Delta Cedar Specialties Ltd.
Devon Lumber Co. Ltd.
DH Manufacturing Inc.
Direct Cedar Supplies Ltd.
Distribution Rioux Inc.
Doubletree Forest Products Ltd.
Downie Timber Ltd.
Dunkley Lumber Ltd.
EACOM Timber Corporation
East Fraser Fiber Co. Ltd.
Edgewood Forest Products Inc.
Elrod Cartage Ltd.
ER Probyn Export Ltd.
Falcon Lumber Ltd.
Fontaine Inc.
Foothills Forest Products Inc.
Forest Products Mauricie LP; Societe en commandite Scierie Opitciwan; Resolute Growth Canada Inc.; Resolute FP Canada Inc.; Resolute-LP Engineered Wood Larouche Inc.; Resolute-LP Engineered Wood St-Prime Limited Partnership
Fort St. James Forest Products Limited Partnership
Fraser Specialty Products Ltd.
FraserWood Industries Ltd.
Furtado Forest Products Ltd.
Galloway Lumber Company Ltd.
Glandell Enterprises Inc.
Goldband Shake & Shingle Ltd.
Goldwood Industries Ltd.
Goodfellow Inc.
Gorman Bros. Lumber Ltd.
Greendale Industries Inc.
GreenFirst Forest Products (QC) Inc.
GreenFirst Forest Products Inc.
Greenwell Resources Inc.
Griff Building Supplies Ltd.
Groupe Crete Chertsey Inc.
Groupe Crete Division St-Faustin Inc.
Groupe Lebel Inc.
Groupe Lignarex Inc.
H.J. Crabbe & Sons Ltd.
Haida Forest Products Ltd.
Halo Sawmill, a division of Delta Cedar Specialties Ltd.; Halo Sawmill Manufacturing Limited Partnership
Hampton Tree Farms, LLC (dba Hampton Lumber Sales Canada)
Hornepayne Lumber LP
Hudson Mitchell & Sons Lumber Inc.
Hy Mark Wood Products Inc.
Imperial Cedar Products Ltd.
Independent Building Materials Distribution Inc.
Interfor Corporation
Interfor Sales & Marketing Ltd.
Intertran Holdings Ltd. (dba Richmond Terminal)
Island Cedar Products Ltd.
Ivor Forest Products Ltd.
J&G Log Works Ltd.
J.D. Irving, Limited
J.H. Huscroft Ltd.
Jan Woodlands (2001) Inc.
Jasco Forest Products Ltd.
Jazz Forest Products Ltd.
Jhajj Lumber Corporation
Kalesnikoff Lumber Co. Ltd.
Kan Wood Ltd.
Kebois Ltee; Kebois Ltd.
Kelfor Industries Ltd.
Kermode Forest Products Ltd.
Keystone Timber Ltd.
La Crete Sawmills Ltd.
Lafontaine Lumber Inc.
Langevin Forest Products Inc.
Lecours Lumber Co. Limited
Leisure Lumber Ltd.
Les Bardeaux Lajoie Inc.
Les Bois d'oeuvre Beaudoin Gauthier Inc.
Les Bois Martek Lumber
Les Bois Traites M.G. Inc.
Les Chantiers de Chibougamau Ltee; Les Chantiers de Chibougamau Ltd.
Les Industries P.F. Inc.
Les Produits Forestiers D&G Ltee; D&G Forest Products Ltd.
Les Produits Forestiers Sitka Inc. (a.k.a. Sitka Forest Products Inc.)
Leslie Forest Products Ltd.
Lignum Forest Products LLP
Linwood Homes Ltd.
Lonestar Lumber lnc.
Lulumco Inc.
Lumber Assets Holding LP
Madera Forest Products INC
Magnum Forest Products Ltd.
Maibec Inc.
Mainland Sawmill, a division of Terminal Forest Products
Manitou Forest Products Ltd.
Manning Forest Products Ltd.; Sundre Forest Products Inc.; Blue Ridge Lumber Inc.; West Fraser Mills Ltd.
Marcel Lauzon Inc.
Marwood Ltd.
Materiaux Blanchet Inc.
Metrie Canada Ltd.
Mid Valley Lumber Specialties Ltd.
Midway Lumber Mills Ltd.
Mill & Timber Products Ltd.
Millar Western Forest Products Ltd.
Mirax Lumber Products Ltd.
Mobilier Rustique (Beauce) Inc.
Modern Terminal Ltd.
Monterra Lumber Mills Limited
Morwood Forest Products Inc.
Multicedre Ltee
Murray Brothers Lumber Company Ltd.
Nagaard Sawmill Ltd.
Nakina Lumber Inc.
National Forest Products Ltd.
Nicholson and Cates Ltd.
Nickel Lake Lumber
Norsask Forest Products Inc.
Norsask Forest Products Limited Partnership
North American Forest Products Ltd. (located in Abbotsford, British Columbia)
North American Forest Products Ltd. (located in Saint-Quentin, New Brunswick)
North Enderby Timber Ltd.
Northland Forest Products Ltd.
NSC Lumber Ltd.
Oakwood Manufacturing A Division of Weston Forest Products Inc.
Olympic Industries Inc.
Olympic Industries ULC
Oregon Canadian Forest Products; Oregon Canadian Forest Products Inc.
Pacific Coast Cedar Products Ltd.
Pacific Lumber Remanufacturing Inc.
Pacific NorthWest Lumber Ltd.
Pacific Pallet Ltd.
Pacific Western Wood Works Ltd.
PalletSource Inc.
Parallel Wood Products Ltd.
Partap Forest Products Ltd.
Partap Industries
Pat Power Forest Products Corporation
Peak Industries (Cranbrook) Ltd.
Phoenix Forest Products Inc.
Pine Ideas Ltd.
Pioneer Pallet & Lumber Ltd.
Porcupine Wood Products Ltd.
Portbec Forest Products Ltd.; Les Produits Forestiers Portbec Ltee
Power Wood Corp.
Precision Cedar Products Corp.
Produits Forestiers Petit Paris Inc.
Produits Matra Inc.; Sechoirs de Beauce Inc.
Promobois G.D.S. Inc.
R.A. Green Lumber Ltd.
Rembos Inc.
Rene Bernard Inc.
Rick Dubois
Rielly Industrial Lumber Inc.
River City Remanufacturing Inc.
S&R Sawmills Ltd.
S&W Forest Products Ltd.
San Group
San Industries Ltd.
Sapphire Lumber Company
Sawarne Lumber Co. Ltd.
Scierie Alexandre Lemay & Fils Inc.
Scierie St-Michel Inc.
Scierie West Brome Inc.
Scott Lumber Sales; Scott Lumber Sales Ltd.
Shakertown Corp.
Sigurdson Forest Products Ltd.
Silvaris Corporation
Sinclar Group Forest Products Ltd.
Skana Forest Products Ltd.
Skeena Sawmills Ltd.
Smart Wood Forest Products Ltd.
Smartlam LLC
Sonora Logging Ltd.
Source Forest Products
South Beach Trading Inc.
South Coast Reman Ltd.; Southcoast Millwork Ltd.
South Fraser Container Terminals
Specialiste du Bardeau de Cedre Inc.; Specialiste du Bardeau de Cedre Inc. (SBC)
Spruceland Millworks Inc.
Star Lumber Canada Ltd.
Suncoast Industries Inc.
Suncoh Custom Lumber Ltd.
Sundher Timber Products Inc.
Surplus G Rioux
Surrey Cedar Ltd.
Swiftwood Forest Products Ltd.
T&P Trucking Ltd.
T.G. Wood Products
Taan Forest Limited Partnership (a.k.a. Taan Forest Products)
Taiga Building Products Ltd.
Tall Tree Lumber Company
Temrex Forest Products LP; Produits Forestiers Temrex S.E.C.
Tenryu Canada Corporation
Terminal Forest Products Ltd.
The Wood Source Inc.
Tolko Industries Ltd.; Tolko Marketing and Sales Ltd.; Gilbert Smith Forest Products Ltd.
Top Quality Lumber Ltd.
Trans-Pacific Trading Ltd.
Triad Forest Products Ltd.
Twin Rivers Paper Co. Inc.
Tyee Timber Products Ltd.
Universal Lumber Sales Ltd.
Usine Sartigan Inc.
Vaagen Fibre Canada ULC
Valley Cedar 2 Inc.
Vancouver Specialty Cedar Products Ltd.
Vanderhoof Specialty Wood Products Ltd.
Vanderwell Contractors (1971) Ltd.
Visscher Lumber Inc.
W.I. Woodtone Industries Inc.
Waldun Forest Product Sales Ltd.
Watkins Sawmills Ltd.
West Bay Forest Products Ltd.
West Coast Panel Cutters
Western Forest Products Inc.
Western Lumber Sales Limited
Western Timber Products, Inc.
Westminster Industries Ltd.
Weston Forest Products Inc.
Westrend Exteriors Inc
Weyerhaeuser Co.
White River Forest Products L.P.
Winton Homes Ltd.
Woodline Forest Products Ltd.
Woodstock Forest Products
Woodtone Specialties Inc.
WWW Timber Products Ltd.
GERMANY: Forged Steel Fluid End Blocks, A-428-847 | 1/1/22-12/31/22
BGH Edelstahl Siegen GmbH
Buderus Edelstahl GmbH
Deutsche Edelstahlwerke GmbH
Saarschmiede GmbH Freiformschmiede
Schmiedewerke Gröditz GmbH
voestalpine Böhler Group
GERMANY: Thermal Paper,⁵ A-428-850 | 5/12/21-10/31/22
INDIA: Polyester Textured Yarn, A-533-885 | 1/1/22-12/31/22
Reliance Industries Limited
ITALY: Forged Steel Fluid End Blocks, A-475-840 | 1/1/22-12/31/22
Acciaierie Bertoli Safau S.p.A.
ASFO S.p.A.
Cogne Acciai Speciali S.p.A.
Ellena S.p.A.
Fomas S.p.A.
Forge Monchieri S.p.A.
Forgiatura Morandini S.r.l.
Forgital Italy S.p.A.
Galperti Group
IMER International S.p.A.
I.M.E.S. S.p.A
Industria Meccanica e Stampaggio S.p.A.
Lucchini Mame Forge S.p.A.
Mimest S.p.A.
Ofar S.p.A.
Officine Galperti S.p.A.
Officine Meccaniche Roselli S.r.l.
P. Technologies S.r.l.
Poclain Hydraulics Indistriale S.r.l.
Poppi Ugo Euroforge S.p.A.
Riganti S.p.A.
Ringmill S.p.A.
Siderforgerossi Group S.p.A.
THAILAND: Prestressed Concrete Steel Wire Strand, A-549-820 | 1/1/22-12/31/22
The Siam Industrial Wire Co., Ltd.
THE PEOPLE'S REPUBLIC OF CHINA: Carbon and Certain Alloy Steel Wire Rod, A-570-012 | 1/1/22-12/31/22
Anshan Iron & Steel Group Corp.
Anyang Iron & Steel Group Co., Ltd
Baoshan Iron & Steel Co., Ltd
Baotou Iron and Steel (Group) Co., Ltd
Beijing Jianlong Heavy Industry Group Co., Ltd.
Beijing Ju Xiang Ze Trading Co. Ltd.
Beitai Iron & Steel Group Co., Ltd
Bekaert Binjiang Steel Cord Co., Ltd.
Chongqing Iron and Steel (Group) Co., Ltd.
Dezhou Hualude Hardware Products Co., Ltd.
Dingzhou Xingkai Metal Products
Fugang Group
Goldenluck Imp. & Exp. (Ningbo Hai Shu) Co., Ltd.
Guangxi Liuzhou Iron and Steel (Group) Company
Handan Iron & Steel Group Co., Ltd
Hangzhou Iron & Steel Group Company
Hebei Best Hardware And Mesh Co
Hebei Iron & Steel Group Co., Ltd.
Hebei Leeter Imp. & Exp. Co., Ltd.
Hebei Xinjin Iron and Steel Co., Ltd
Henan Jiyuan Iron & Steel Group Co., Ltd
Hongxin Tianjin Iron & Steel Group Co., Ltd
Hunan Valin Xiangtan Iron & Steel Co., Ltd (XISC)
Jiangsu Shagang Group Co., Ltd
Jiangsu Weixi Group Company
Jiangsu Yonggang Iron & Steel Group Co., Ltd
Jiangxi Pingxiang Iron and Steel (PXSteel) Industrial Co. Ltd.
Jiangyin HiTech Industrial Co., Ltd.
Jiangyin Xing Cheng Special Steel Works Co., Ltd.
Jiangyou Longhai Special Steel Co., Ltd.
Jinxi Group
Jiuquan Iron & Steel (Group) Co., Ltd (JISCO)
Laiwu Iron and Steel Group. Co., Ltd.
Leader Innovations Ltd
Ling Yuan Iron and Steel Group Co., Ltd.
M And M Industries Co., Ltd.
Maanshan Iron & Steel Co., Ltd
Nanjing Iron and Steel United Co., Ltd.
Nantong Dingxin Metal Products Co
Ningbo Sunburst International Trading Co., Ltd.
Qingdao Haineng Hardware Products Co.
Qingdao Iron & Steel Group Co.
Renogy Suzhou Co., Ltd.
Rizhao Steel Group
Shaanxi Longmen Iron & Steel (Group) Co., Ltd
Shandong Iron and Steel Group Co., Ltd.
Shanghai (Shanghi) Jisco International Trade
Shanxi Jincheng Steel Holding
Shanxi Zhongyang Iron and Steel Co., Ltd.
Shougang Changzhi Steel Co. Ltd.
Shougang Group
Sisor Commodity Co., Ltd.
Tangshan Guofeng Iron & Steel Co. Ltd.
Tangshan Iron and Steel Group Company Limited (Hesteel Group)
Tempo International Industry Co., Ltd.
Tewoo Jiujiang International Trade
Tianjin Rockcheck Steel Group Co., Ltd.
Tianjin Tiantie Metallurgical Group
Tianjin Tiantie Zhaer Steel Production Co., Ltd
Tianjin Wenyunxing Steel Trading Co.
Tonghua Steel Group
Weifang Special Steel Group Co., Ltd
Wu'an Yuhua Steel Co., Ltd.
Wuhan Iron & Steel Co., Ltd.
Xilin Iron & Steel Group
Xingtai Iron & Steel Co., Ltd
Xinyu Iron & Steel Co., Ltd
Xuanhua Iron & Steel Group
Zhejiang Materials Industry International Co., Ltd.
THE PEOPLE'S REPUBLIC OF CHINA: Certain Hardwood Plywood Products, A-570-051 | 1/1/22-12/31/22
An An Plywood Joint Stock Company
Anhui Hoda Wood Co., Ltd.
Arrow Forest International Co., Ltd.
BAC Son Woods Processing Joint Stock Company
Bao Yen MDF Joint Stock Company
Bergey (Tianjin) International Co., Ltd.
BHL Thai Nguyen Corp.
BHL Vietnam Investment and Development
Cam Lam Vietnam Joint Stock Company
Camlam Vietnam Joint Stock Company
Celtic Co., Ltd.
Chengxinli Wood Co Ltd of Lanshan
China Friend Limited
China National United Forestry Co.
Cong Ty TNHH Greatriver Wood
Cosco Star International Co., Ltd.
Dong Tam Production Trading Company Limited
Dongguan Lingfeng Wood Industry Co.
Eagle Industries Company Limited
Feixian Wanda Wood Factory
Fulin Wood Import Export Company Limited
Golden Bridge Industries Pte. Ltd.
Govina Investment Joint Stock Company
Greatriver Wood Co., Ltd.
Greatwood Company Limited
Greatwood Hung Yen Joint Stock Company
Greatwood Joint Stock Company
Greentech Investment Co., Ltd.
Groll Ply and Cabinetry
Groll Ply and Cabinetry Co., Ltd.
Hai Hien Bamboo Wood Joint Stock Company
Happy Wood Industrial Group Co., Ltd.
Her Hui Wood (Vietnam) Co., Ltd.
High Hope Zhongding Corporation
Hoang LAM Plywood Joint Stock Co.
Hunan Fuxi International Trade Co., Ltd.
Huong Son Wood Group Co., Ltd.
Innovgreen Thanh Hoa Co. Ltd.
Jiangsu High Hope Arser Co. Ltd.
Jiaxing Hengtong Wood Co., Ltd.
Lechenwood Viet Nam Company Limited
Lechenwood Vietnam Company Limited
Lianyungang Yuantai International Trade Co., Ltd.
Linwood Vietnam Co. Ltd.
Linyi Chengen Import and Export Co., Ltd.
Linyi City Dongfang Fukai Wood Industry Co., Ltd.
Linyi City Dongfang Jinxin Economic & Trade Co., Ltd.
Linyi Dongstar Import & Export Co., Ltd.
Linyi Evergreen Wood Co., Ltd.
Linyi Glary Plywood Co., Ltd.
Linyi Highwise International Trade Co., Ltd.
Linyi Huasheng Yongbin Wood Co., Ltd.
Linyi Jiahe Wood Industry Co., Ltd.
Linyi Sanfortune Wood Co., Ltd.
Linyi Yachen Wood Co., Ltd.
Long Dat Import and Export Production Company
Long LUU Plywood Production Co., Ltd.
Long Phat Construction Investment and Trade Joint Stock Company
Pingyi Jinniu Wood Co., Ltd.
Pizhou Dayun Import and Export Trade Co., Ltd.
Pizhou Jiangshan Wood Co., Ltd
Pizhou Ouyme Import & Export Trade Co., Ltd.
Plywood Sunshine Co., Ltd.
Plywood Sunshine Ltd. Co.
Qingdao Top P&Q International Corp.
Quang Phat Wood Joint Stock Company
Quang Phat Woods JSC
Quoc Thai Forest Import Export Limited Company
Quoc Thai Forestry Import Export Limited Company
Rongjia Woods Vietnam Company Limited
Shandong Dongfang Bayley Wood Company
Shandong Fangsi Import and Export Co.
Shandong Good Wood Imp and Exp Co.
Shandong Jinhua International Trading Co.
Shandong Junke Import & Export Trade Co., Ltd.
Shandong Wood Home Trading Co., Ltd.
Shanghai Brightwood Trading Co., Ltd.
Shanghai Futuwood Trading Co., Ltd.
Shanghai Luli Trading Co., Ltd.
Shenzhen Yumei Trading Co., Ltd
Shouguang Wanda Wood Co., Ltd.
Star Light Multimedia Co., Ltd.
Sumec Huongson Wood Group Co. Ltd.
Sumec International Technology Co.,
Suqian Hopeway International Trade Co., Ltd.
Suzhou Oriental Dragon Import and Export Co., Ltd.
Tan Tien Co. Ltd.
TEKCOM Corporation
Thang Long Wood Panel Company
Thang Long Wood Panel Company Ltd.
Thanh Hoa Stone Export Company
TL Trung Viet Company Limited
Truong Son North Construction JSC
VietBac Plywood LLC
Vietind Co. Ltd.
Vietnam Golden Timber Company Limited
Vietnam Zhongjia Wood Co., Ltd
Win Faith Trading
Win Faith Trading Limited
Xuzhou Emmet Import and Export Trade
Xuzhou Jiangheng Wood Products Co., Ltd.
Xuzhou Jiangyang Wood Industries Co., Ltd.
Xuzhou Shelter Imp & Exp Co., Ltd.
Xuzhou Shengping Imp. and Exp. Co., Ltd.
Xuzhou Timber International Trade Co., Ltd.
Yangzhou Hanov International Co., Ltd.
Yishui Win-Win Wood Co., Ltd.
Zhejiang Dehua TB Import & Export Co., Ltd.
THE PEOPLE'S REPUBLIC OF CHINA: Potassium Permanganate, A-570-001 | 1/1/22-12/31/22
Chongqing Changyuan Group Limited
Chongqing Changyuan Chemical Corporation Limited
Pacific Accelerator Limited
THE PEOPLE'S REPUBLIC OF CHINA: Wooden Bedroom Furniture, A-570-890 | 1/1/22-12/31/22
Dongguan Chengcheng Furniture Co., Ltd.
Eurosa (Kunshan) Co., Ltd.; Eurosa Furniture Co., (PTE) Ltd.
Golden Lion International Trading Ltd.; Shenzhen Jiafa High Grade Furniture Co., Ltd.
Golden Well International (HK), Ltd.
Guangzhou Maria Yee Furnishings Ltd.; Pyla HK Ltd.
Jiangmen Kinwai International Furniture Co., Ltd.
Jiangmen Kinwai Furniture Decoration Co., Ltd.
Jiangsu Xiangsheng Bedtime Furniture Co., Ltd.
Jiangsu Yuexing Furniture Group Co., Ltd.
Nanhai Jiantai Woodwork Co. Ltd.; Fortune Glory Industrial, Ltd. (HK Ltd.)
Perfect Line Furniture Co., Ltd.
PuTian JingGong Furniture Co., Ltd.
Shenyang Shining Dongxing Furniture Co., Ltd.
Shenzhen New Fudu Furniture Co., Ltd.
Shenzhen Wonderful Furniture Co., Ltd.
Tradewinds Furniture Ltd. (successor-in-interest to Nanhai Jiantai Woodwork Co.); Fortune Glory Industrial Ltd. (H.K. Ltd.)
VidaXL Ningbo Industry Co., Ltd.
Wuxi Yushea Furniture Co., Ltd.
Yeh Brothers World Trade Inc.
Zhangjiagang Daye Hotel Furniture Co. Ltd.
Zhangzhou Guohui Industrial & Trade Co. Ltd.
Zhangzhou XYM Furniture Product Co., Ltd.
Zhejiang Tianyi Scientific & Educational Equipment Co., Ltd.
Zhongshan Fookyik Furniture Co., Ltd.
Zhongshan Golden King Furniture Industrial Co., Ltd.
Zhoushan For-Strong Wood Co., Ltd.
THE PEOPLE'S REPUBLIC OF CHINA: The People's Republic of China: Crystalline Silicon Photovoltaic Cells, Whether or Not Assembled Into Modules,⁶ A-570-979 | 12/1/21-11/30/22
CVD Proceedings
CANADA: Softwood Lumber, C-122-858 | 1/1/22-12/31/22
0752615 B.C Ltd; Fraserview Remanufacturing Inc, DBA Fraserview Cedar Products
10104704 Manitoba Ltd O/A Woodstock Forest Products
1074712 BC Ltd. (Quadra Cedar)
5214875 Manitoba Ltd.; AM Lumber Brokerage
54 Reman
9224-5737 Quebec Inc. (a.k.a. A.G. Bois)
AA Trading Ltd.
Absolute Lumber Products, Ltd.
Adwood Manufacturing Ltd.
AJ Forest Products Ltd.
Aler Forest Products, Ltd.
All American Forest Products Inc.
Alpa Lumber Mills Inc.
Andersen Pacific Forest Products Ltd.
Anglo-American Cedar Products, Ltd.
Antrim Cedar Corporation
Aquila Cedar Products Ltd.
Arbec Lumber Inc. (a.k.a. Arbec Bois Doeuvre Inc.)
Aspen Pacific Industries Inc.
Aspen Planers Ltd.
B&L Forest Products Ltd.
B.B. Pallets Inc. (a.k.a. Les Palettes B.B. Inc.)
Babine Forest Products Limited
Bakerview Forest Products Inc.
Bardobec Inc.
Barrette-Chapais Ltee
BarretteWood Inc.
Benoit & Dionne Produits Forestiers Ltee (a.k.a. Benoit & Dionne Forest Products Ltd.)
Best Quality Cedar Products Ltd.
Blanchet Multi Concept Inc.
Blanchette & Blanchette Inc.
Bois Aise de Montreal Inc.
Bois Bonsai Inc.
Bois D'oeuvre Cedrico Inc. (a.k.a. Cedrico Lumber Inc.)
Bois Daaquam inc. (a.k.a. Daaquam Lumber Inc.)
Bois et Solutions Marketing SPEC, Inc. (a.k.a. SPEC Wood & Marketing Solution or SPEC Wood and Marketing Solutions Inc.)
Bois Weedon Inc.
Boisaco Inc.
Boscus Canada Inc.
Boucher Bros. Lumber Ltd.
BPWood Ltd.
Bramwood Forest Inc.
Brink Forest Products Ltd.
Brunswick Valley Lumber Inc.
Burrows Lumber (CD) Ltd.; Theo A. Burrows Lumber Company Limited
Busque & Laflamme Inc.
Campbell River Shake & Shingle Co., Ltd.
Canada Pallet Corp.
Canadian Bavarian Millwork & Lumber Ltd.
Canadian Forest Products, Ltd.; Canfor Corporation; Canfor Wood Products Marketing, Ltd.
Canasia Forest Industries Ltd.
Canyon Lumber Company, Ltd.
Careau Bois Inc.
CarlWood Lumber Ltd.
Carrier & Begin Inc.
Carrier Forest Products Ltd.
Carrier Lumber Ltd.
Carter Forest Products Inc.
Cedar Island Forest Products Ltd.
Cedar Valley Holdings Ltd.
Cedarcoast Lumber Products
Cedarland Forest Products Ltd.
Cedarline Industries Ltd.
Central Alberta Pallet Supply
Central Cedar Ltd.
Central Forest Products Inc.
Centurion Lumber Ltd.
Chaleur Forest Products Inc.
Chaleur Forest Products LP
Channel-ex Trading Corporation
CHAP Alliance Inc.
Clair Industrial Development Corp. Ltd
Clermond Hamel Ltee
CLG Enterprises Inc.
CNH Products Inc.
Coast Clear Wood Ltd.
Coast Mountain Cedar Products Ltd.
Columbia River Shake & Shingle Ltd.; Teal Cedar Products Ltd., dba The Teal Jones Group
Commonwealth Plywood Co. Ltd.
Comox Valley Shakes (2019) Ltd.
Conifex Fibre Marketing Inc.
Coulson Manufacturing Ltd.
Cowichan Lumber Ltd.
CS Manufacturing Inc., dba Cedarshed
CWP Industriel Inc. (a.k.a. CWP—Industriel Inc.)
CWP—Montreal inc.
D & D Pallets Ltd.
Dakeryn Industries Ltd.
Decker Lake Forest Products Ltd.
Deep Cove Forest Products, Inc.
Delco Forest Products Ltd.
Delta Cedar Specialties Ltd.
Devon Lumber Co. Ltd.
DH Manufacturing Inc.
Direct Cedar Supplies Ltd.
Distribution Rioux Inc.
Doubletree Forest Products Ltd.
Downie Timber Ltd.
Dunkley Lumber Ltd.
EACOM Timber Corporation
East Fraser Fiber Co. Ltd.
Edgewood Forest Products Inc.
Elrod Cartage Ltd.
ER Probyn Export Ltd.
Falcon Lumber Ltd.
Fontaine Inc.; Gestion Natanis Inc.; Les Placements Jean-Paul Fontaine Ltee; Placements Nicolas Fontaine Inc.
Foothills Forest Products Inc.
Fort St. James Forest Products Limited Partnership
Fraser Specialty Products Ltd.
FraserWood Industries Ltd.
Furtado Forest Products Ltd.
Galloway Lumber Company Ltd.
Gilbert Smith Forest Products Ltd.
Glandell Enterprises Inc.
Goldband Shake & Shingle Ltd.
Goldwood Industries Ltd.
Goodfellow Inc.
Gorman Bros. Lumber Ltd.
Greendale Industries Inc.
GreenFirst Forest Products (QC) Inc.
Greenwell Resources Inc.
Griff Building Supplies Ltd.
Groupe Crete Chertsey Inc.
Groupe Crete Division St-Faustin Inc.
Groupe Lebel Inc.
Groupe Lignarex Inc.
H.J. Crabbe & Sons Ltd.
Haida Forest Products Ltd.
Halo Sawmill Manufacturing Limited Partnership
Hampton Tree Farms, LLC, dba Hampton Lumber Sales Canada
Hornepayne Lumber LP
Hudson Mitchell & Sons Lumber Inc.
Hy Mark Wood Products Inc.
Imperial Cedar Products, Ltd.
Independent Building Materials Distribution Inc.
Interfor Corporation
Interfor Sales & Marketing Ltd.
Intertran Holdings Ltd., dba Richmond Terminal
Island Cedar Products Ltd
Ivor Forest Products Ltd.
J&G Log Works Ltd.
J.D. Irving, Limited; Irving Paper Limited; Miramichi Timber Holdings Limited; Rothesay Paper Holdings Ltd.; St. George Pulp & Paper Limited; The New Brunswick Railway Company
J.H. Huscroft Ltd.
Jan Woodlands (2001) Inc.
Jasco Forest Products Ltd.
Jazz Forest Products Ltd.
Jhajj Lumber Corporation
Kalesnikoff Lumber Co. Ltd.
Kan Wood, Ltd.
Kebois Ltee/Ltd
Kelfor Industries Ltd.
Kermode Forest Products Ltd.
Keystone Timber Ltd.
L'Atelier de Readaptation au travil de Beauce Inc.
La Crete Sawmills Ltd.
Lafontaine Lumber Inc.
Langevin Forest Products Inc.
Lecours Lumber Co. Limited
Leisure Lumber Ltd.
Les Bardeaux Lajoie Inc.
Les Bois d'oeuvre Beaudoin Gauthier Inc.
Les Bois Martek Lumber
Les Bois Traites M.G. Inc.
Les Chantiers de Chibougamau Ltd./Ltee
Les Industries P.F. Inc.
Les Produits Forestiers D&G Ltee (a.k.a. D&G Forest Products Ltd.); Le Groupe Gesco-Star Ltee; Les Produits Forestiers Portbec Ltee; Les Produits Forestiers Startrees Ltee
Les Produits Forestiers Sitka Inc. (a.k.a. Sitka Forest Products Inc.)
Leslie Forest Products Ltd.
Lignum Forest Products LLP
Linwood Homes Ltd.
Lonestar Lumber lnc.
Lulumco Inc.
Madera Forest Products INC
Magnum Forest Products, Ltd.
Maibec Inc.
Mainland Sawmill, a division of Terminal Forest Products Ltd.
Manitou Forest Products Ltd
Marcel Lauzon Inc.; Placements Marcel Lauzon Ltee; Investissements LRC Inc.
Marwood Ltd.
Materiaux Blanchet Inc.
Metrie Canada Ltd.
Mid Valley Lumber Specialties Ltd.
Midway Lumber Mills Ltd.
Mill & Timber Products Ltd.
Millar Western Forest Products Ltd.
Mirax Lumber Products Ltd.
Mobilier Rustique (Beauce) Inc.; J.F.S.R. Inc.; Gestion C.A. Rancourt Inc.; Gestion J.F. Rancourt Inc.; Gestion Suzie Rancourt Inc.; Gestion P.H.Q. Inc.; 9331-3419 Quebec Inc.; 9331-3468 Quebec Inc.; SPQ Inc.
Modern Terminal Ltd.
Monterra Lumber Mills Limited
Morwood Forest Products Inc.
Multicedre ltee
Murray Brothers Lumber Company Ltd
Nagaard Sawmill Ltd.
Nakina Lumber Inc.
National Forest Products Ltd.
Nicholson and Cates Ltd.
NorSask Forest Products Inc.
NorSask Forest Products Limited Partnership;
North American Forest Products Ltd. (located in Abbotsford, British Columbia)
North American Forest Products Ltd. (located in Saint-Quentin, New Brunswick); Parent-Violette Gestion Ltee; Le Groupe Parent Ltee
North Enderby Timber Ltd.
Northland Forest Products Ltd.
NSC Lumber Ltd.
Oakwood Manufacturing, A Division of Weston Forest Products Inc.
Olympic Industries, Inc.; Olympic Industries Inc-Reman Code; Olympic Industries ULC; Olympic Industries ULC-Reman; Olympic Industries ULC-Reman Code
Oregon Canadian Forest Products Inc., dba Oregon Canadian Forest Products
Pacific Coast Cedar Products Ltd.
Pacific Lumber Remanufacturing Inc.
Pacific NorthWest Lumber Ltd.
Pacific Pallet, Ltd.
Pacific Western Wood Works Ltd.
PalletSource Inc.
Parallel Wood Products Ltd.
Partap Forest Products Ltd.
Partap Industries
Pat Power Forest Products Corporation
Peak Industries (Cranbrook) Ltd.
Phoenix Forest Products Inc.
Pine Ideas Ltd.
Pioneer Pallet & Lumber Ltd.
Porcupine Wood Products Ltd.
Portbec Forest Products Ltd (a.k.a. Les Produits Forestiers Portbec Ltee)
Power Wood Corp.
Precision Cedar Products Corp.
Prendiville Industries Ltd. (a.k.a. Kenora Forest Products)
Produits Forestiers Petit Paris Inc.
Produits forestiers Temrex, s.e.c. (a.k.a. Temrex Forest Products LP)
Produits Matra Inc.; Sechoirs de Beauce Inc.; Bois Ouvre de Beauceville (1992), Inc.
Promobois G.D.S. Inc.
R.A. Green Lumber Ltd.
Rayonier A.M. Canada GP
Rembos Inc.
Rene Bernard inc.
Resolute FP Canada Inc.; 9192-8515 Quebec Inc.; Abitibi-Bowater Canada Inc.; Bowater Canadian Ltd.; Produits Forestiers Maurice S.E.C.; Resolute Forest Products Inc.
Rick Dubois
Rielly Industrial Lumber Inc.
River City Remanufacturing Inc.
Roland Boulanger & Cie Ltee; Industries Daveluyville Inc.; Les Manufacturiers Warwick Ltee
S&R Sawmills Ltd.
S&W Forest Products Ltd.
San Group
San Industries Ltd.
Sapphire Lumber Company
Sawarne Lumber Co. Ltd.
Scierie Alexandre Lemay & Fils Inc.; Bois Lemay Inc.; Industrie Lemay Inc.
Scierie St-Michel Inc.
Scierie West Brome Inc.
Scott Lumber Sales Ltd.
Shakertown Corp.
Sigurdson Forest Products Ltd.
Silvaris Corporation
Sinclar Group Forest Products Ltd.
Skana Forest Products Ltd.
Skeena Sawmills Ltd.
Smart Wood Forest Products Ltd.
Smartlam LLC
Sonora Logging Ltd.
Source Forest Products
South Beach Trading Inc.
South Coast Reman Ltd.
South Fraser Container Terminals
Southcoast Millwork Ltd.
Specialiste du Bardeau de Cedre Inc. (a.k.a. SBC)
Spruceland Millworks Inc.
Star Lumber Canada Ltd.
Suncoast Industries Inc.
Suncoh Custom Lumber Ltd.
Sundher Timber Products Inc.
Surplus G Rioux
Surrey Cedar Ltd.
Swiftwood Forest Products Ltd.
T&P Trucking Ltd.
Taan Forest Limited Partnership (a.k.a. Taan Forest Products)
Taiga Building Products Ltd.
Tall Tree Lumber Company
Tenryu Canada Corporation
Terminal Forest Products Ltd.
TG Wood Products
The Wood Source Inc.
Tolko Industries Ltd.; Tolko Marketing and Sales Ltd.; Meadow Lake OSB Limited Partnership
Top Quality Lumber Ltd.
Trans-Pacific Trading Ltd.
Triad Forest Products Ltd.
Twin Rivers Paper Co. Inc.
Tyee Timber Products Ltd.
Universal Lumber Sales Ltd.
Usine Sartigan Inc.
Vaagen Fibre Canada, ULC
Valley Cedar 2 Inc.
Vancouver Specialty Cedar Products Ltd.
Vanderhoof Specialty Wood Products Ltd.
Vanderwell Contractors (1971) Ltd.
Visscher Lumber Inc.
W.I. Woodtone Industries Inc.
Waldun Forest Product Sales Ltd.
Watkins Sawmills Ltd.
West Bay Forest Products Ltd.
West Coast Panel Cutters
West Fraser Mills Ltd.; Blue Ridge Lumber Inc.; Manning Forest Products, Ltd.; Sundre Forest Products Inc.; Sunpine Inc.; West Fraser Alberta Holdings, Ltd.; West Fraser Timber Co. Ltd.
Western Forest Products Inc.
Western Lumber Sales Limited
Western Timber Products, Inc.
Westminster Industries Ltd.
Weston Forest Products Inc.
Westrend Exteriors Inc.
Weyerhaeuser Co.
White River Forest Products L.P.
Winton Homes Ltd.
Woodline Forest Products Ltd.
Woodstock Forest Products
Woodtone Specialties Inc.
WWW Timber Products Ltd.
GERMANY: Forged Steel Fluid End Blocks, C-428-848 | 1/1/22-12/31/22
BGH Edelstahl Siegen GmbH
Buderus Edelstahl GmbH
Deutsche Edelstahlwerke GmbH
Saarschmiede GmbH Freiformschmiede
Schmiedewerke Gröditz GmbH
voestalpine Böhler Group
INDIA: Polyester Textured Yarn, C-533-886 | 1/1/22-12/31/22
Reliance Industries Limited
INDIA: Forged Steel Fluid End Blocks, C-533-894 | 1/1/22-12/31/22
Bharat Forge Ltd.; Saarloha Advanced Materials Private Limited ⁷
Bharat Forge Limited, India
Echjay Industries Pvt. Ltd.
Jaypee Forge Pvt. Ltd.
MM Forgings Ltd. (a.k.a., M M Forgings Ltd.)
Mars Forge Pvt. Ltd.
Pradeep Metals Ltd.
Ramkrishna Forgings Ltd.
Rolex Rings Ltd.
Sunrise Exports International
Western Heat and Forge Pvt. Ltd.
Western India Forgings Pvt. Ltd.
ITALY: Forged Steel Fluid End Blocks, C-475-841 | 1/1/22-12/31/22
Acciaierie Bertoli Safau S.p.A.
ASFO S.p.A.
Cogne Acciai Speciali S.p.A.
Ellena S.p.A.
Fomas S.p.A.
Forge Monchieri S.p.A.
Forgiatura Morandini S.r.l.
Forgital Italy S.p.A.
Galperti Group
Industria Meccanica e Stampaggio S.p.A. a.k.a. I.M.E.S. S.p.A.
IMER International S.p.A.
Lucchini Mame Forge S.p.A; Lucchini RS S.p.A.; Lucchini Industries S.r.l.; Bicomet S.p.A., Setrans S.r.l.⁸
Metalcam S.p.A., Adamello Meccanica S.r.l., and B.S. S.r.l.⁹
Mimest S.p.A.
Ofar S.p.A.
Officine Galperti S.p.A.
Officine Meccaniche Roselli S.r.l.
P. Technologies S.r.l.
Poclain Hydraulics Indistriale S.r.l.
Poppi Ugo Euroforge S.p.A.
Riganti S.p.A.
Ringmill S.p.A.
Siderforgerossi Group S.p.A.
THE PEOPLE'S REPUBLIC OF CHINA: Carbon and Certain Alloy Steel Wire Rod, C-570-013 | 1/1/22-12/31/22
Anshan Iron & Steel Group Corp.
Anyang Iron & Steel Group Co., Ltd
Baoshan Iron & Steel Co., Ltd
Baotou Iron and Steel (Group) Co., Ltd
Beijing Jianlong Heavy Industry Group Co., Ltd.
Beijing Ju Xiang Ze Trading Co. Ltd.
Beitai Iron & Steel (Group) Co., Ltd.; Benxi Beifang Gaosu Steel Wire Rod Co., Ltd.; Benxi Beifang Second Rolling Co., Ltd.; Benxi Beitai Gaosu Steel Wire Rod Co., Ltd.; Benxi Beiying Iron & Steel (Group) Co., Ltd.; Benxi Northern Steel Co., Ltd.; Benxi Northern Steel Rolling Co., Ltd.; Benxi Steel Group Corporation; Benxi Beiying Iron & Steel Imp & Exp Corp.
Bekaert Binjiang Steel Cord Co., Ltd.
Chongqing Iron and Steel (Group) Co., Ltd.
Dezhou Hualude Hardware Products Co., Ltd.
Dingzhou Xingkai Metal Products
Fugang Group
Goldenluck Imp. & Exp. (Ningbo Hai Shu) Co., Ltd.
Guangxi Liuzhou Iron and Steel (Group) Company
Handan Iron & Steel Group Co., Ltd.
Hangzhou Iron & Steel Group Company
Hebei Best Hardware And Mesh Co.
Hebei Iron & Steel Group Co., Ltd.
Hebei Leeter Imp. & Exp. Co., Ltd.
Hebei Xinjin Iron and Steel Co., Ltd
Henan Jiyuan Iron & Steel Group Co., Ltd
Hongxin Tianjin Iron & Steel Group Co., Ltd
Hunan Valin Xiangtan Iron & Steel Co., Ltd (XISC)
Jiangsu Shagang Group Co., Ltd
Jiangsu Weixi Group Company
Jiangsu Yonggang Iron & Steel Group Co., Ltd
Jiangxi Pingxiang Iron and Steel (PXSteel) Industrial Co. Ltd.
Jiangyin HiTech Industrial Co., Ltd.
Jiangyin Xing Cheng Special Steel Works Co., Ltd.
Jiangyou Longhai Special Steel Co., Ltd.
Jinxi Group
Jiuquan Iron & Steel (Group) Co., Ltd (JISCO)
Laiwu Iron and Steel Group. Co., Ltd.
Leader Innovations Ltd.
Ling Yuan Iron and Steel Group Co., Ltd.
M And M Industries Co., Ltd.
Maanshan Iron & Steel Co., Ltd
Nanjing Iron and Steel United Co., Ltd.
Nantong Dingxin Metal Products Co.
Ningbo Sunburst International Trading Co., Ltd.
Qingdao Haineng Hardware Products Co.
Qingdao Iron & Steel Group Co.
Renogy Suzhou Co., Ltd.
Rizhao Steel Group
Shaanxi Longmen Iron & Steel (Group) Co., Ltd
Shandong Iron and Steel Group Co., Ltd.
Shanghai (Shanghi) Jisco International Trade
Shanxi Jincheng Steel Holding (Group) Co., Ltd.
Shanxi Zhongyang Iron and Steel Co., Ltd.
Shougang Changzhi Steel Co. Ltd.
Shougang Group
Sisor Commodity Co., Ltd.
Tangshan Guofeng Iron &Steel Co. Ltd.
Tangshan Iron and Steel Group Company Limited (Hesteel Group)
Tempo International Industry Co., Ltd.
Tewoo Jiujiang International Trade
Tianjin Rockcheck Steel Group Co., Ltd.
Tianjin Tiantie Metallurgical Group
Tianjin Tiantie Zhaer Steel Production Co., Ltd
Tianjin Wenyunxing Steel Trading Co.
Tonghua Steel Group
Weifang Special Steel Group Co., Ltd
Wu'an Yuhua Steel Co., Ltd.
Wuhan Iron & Steel Co., Ltd.
Xilin Iron & Steel Group
Xingtai Iron & Steel Co., Ltd
Xinyu Iron & Steel Co., Ltd
Xuanhua Iron & Steel Group Corp. Ltd
Zhejiang Materials Industry International Co., Ltd.
THE PEOPLE'S REPUBLIC OF CHINA: Certain Hardwood Plywood Products, C-570-052 | 1/1/22-12/31/22
An An Plywood Joint Stock Company
Arrow Forest International Co., Ltd.
BAC Son Woods Processing Joint Stock Company
Cam Lam Vietnam Joint Stock Company
Camlam Vietnam Joint Stock Company
Cong Ty TNHH Greatriver Wood
Eagle Industries Company Limited
Fulin Wood Import Export Company Limited
Golden Bridge Industries Pte. Ltd.
Govina Investment Joint Stock Company
Greatriver Wood Co., Ltd.
Greatwood Hung Yen Joint Stock Company
Greatwood Joint Stock Company
Greentech Investment Co., Ltd.
Groll Ply and Cabinetry
Groll Ply and Cabinetry Co., Ltd.
Hai Hien Bamboo Wood Joint Stock Company
Her Hui Wood (Vietnam) Co., Ltd
Hoang LAM Plywood Joint Stock Co.
Huong Son Wood Group Co., Ltd.
Innovgreen Thanh Hoa Co., Ltd.
Lechenwood Viet Nam Company Limited
Lechenwood Vietnam Company Limited
Long Dat Import and Export Production Company
Long LUU Plywood Production Co., Ltd.
Long Phat Construction Investment and Trade Joint Stock Company
Plywood Sunshine Co., Ltd.
Plywood Sunshine Ltd. Co.
Quang Phat Wood Joint Stock Company
Quang Phat Woods JSC
Quoc Thai Forestry Import Export Limited Company
Star Light Multimedia Co., Ltd.
TEKCOM Corporation
Thang Long Wood Panel Company
TL Trung Viet Company Limited
VietBac Plywood LLC
VietNam ZhongJia Wood Company Limited
Win Faith Trading
Win Faith Trading Limited
THE PEOPLE'S REPUBLIC OF CHINA: Refillable Stainless Steel Kegs, C-570-094 | 1/1/21-12/31/21
Ningbo Master International Trade Co., Ltd.¹⁰
TURKEY: Steel Concrete Reinforcing Bar,¹¹ C-489-819 | 1/1/21-12/31/21
Ans Kargo Lojistik Tas ve Tic
Baykan Dis Ticaret
Colakoglu Dis Ticaret A.S.
Colakoglu Metalurji A.S.
Icdas Celik Enerji Tersane ve Ulasim Sanayi A.S.
Mardas Marmara Deniz Isletmeciligi A.S.
Artmak Denizcilik Ticaret ve Sanayi A.S.
Oraysan Insaat Sanayi ve Ticaret A.S.
Artim Demir Insaat Turizm Sanayi Ticaret Ltd. Sti.
Anka Entansif Hayvancilik Gida Tarim Sanayi ve Ticaret A.S.
Eras Tasimacilik Taahhut Insaat ve Ticaret A.S.
Karsan Gemi Insaa Sanayi Ticaret A.S.
Kaptan Metal Dis Ticaret ve Nakliyat A.S.
Kaptan Demir Celik Endustrisi Ve Ticaret A.S.
Kaptan Is Makinalari Hurda Alim Satim Ltd. Sti
Efesan Demir San. Ve Tic. A.S.
Martas Marmara Ereglisi Liman Tesisleri A.S.
Aset Madencilik A.S.
Nur Gemicilik ve Tic. A.S.
Kibar dis Ticaret A.S
Meral Makina Iml Ith Ihr Gida
Sami Soybas Demir Sanayi ve Ticaret
Yucel Boru Ihracat Ithalat ve Pazarlama
Suspension Agreements
None.

Duty Absorption Reviews

⁵ In the initiation notice that published on January 3, 2023 (88 FR 50), Commerce inadvertently listed Matra Americas LLC, a U.S. importer of subject merchandise, as a company under administrative review. Commerce hereby clarifies that Matra Americas LLC is not subject to the review.

⁶ In the initiation notice that published on February 2, 2023 (88 FR 7060), Commerce inadvertently listed Changzhou Trina PV Ribbon Materials Co., Ltd. as a company under administrative review. Commerce hereby clarifies that Changzhou Trina PV Ribbon Materials Co., Ltd. is not subject to the review.

⁷ Commerce previously found Bharat Forge Ltd. and Saarloha Advanced Materials Private Limited to be cross-owned. See Forged Steel Fluid End Blocks from India: Preliminary Affirmative Countervailing Duty Determination, and Alignment of the Final Determination with the Final Antidumping Duty Determination, 85 FR 31452 (May 26, 2020), and accompanying Preliminary Decision Memorandum at 7-8, unchanged in Forged Steel Fluid End Blocks from India: Final Affirmative Countervailing Duty Determination, 85 FR 79999 (December 11, 2020); see also Forged Steel Fluid End Blocks from the People's Republic of China, the Federal Republic of Germany, India, and Italy: Correction to Countervailing Duty Orders, 86 FR 10244 (February 19, 2021).

⁸ Commerce previously found Lucchini Mame Forge S.p.A, Lucchini RS S.p.A., Lucchini Industries S.r.l., Bicomet S.p.A., and Setrans S.r.l to be cross-owned. See Forged Steel Fluid End Blocks From Italy: Preliminary Affirmative Countervailing Duty Determination, and Alignment of Final Determination With Final Antidumping Duty Determination, 85 FR 31460 (May 26, 2020), and accompanying Preliminary Decision Memorandum at 18-19, unchanged in Forged Steel Fluid End Blocks from Italy: Final Affirmative Countervailing Duty Determination, 85 FR 80022 (December 11, 2020); see also Forged Steel Fluid End Blocks From the People's Republic of China, the Federal Republic of Germany, India, and Italy: Correction to Countervailing Duty Orders, 86 FR 10244 (February 19, 2021).

⁹ Commerce previously found Metalcam S.p.A., Adamello Meccanica S.r.l., and B.S. S.r.l to be cross-owned. See Forged Steel Fluid End Blocks From Italy: Preliminary Affirmative Countervailing Duty Determination, and Alignment of Final Determination With Final Antidumping Duty Determination, 85 FR 31460 (May 26, 2020), and accompanying Preliminary Decision Memorandum at 18-19, unchanged in Forged Steel Fluid End Blocks from Italy: Final Affirmative Countervailing Duty Determination, 85 FR 80022 (December 11, 2020); see also Forged Steel Fluid End Blocks From the People's Republic of China, the Federal Republic of Germany, India, and Italy: Correction to Countervailing Duty Orders, 86 FR 10244 (February 19, 2021).

¹⁰ This company was inadvertently omitted from the initiation notice that published on February 2, 2023 (88 FR 7060). Commerce hereby clarifies that it received a request to conduct an administrative review of this company, and, in accordance with Commerce's regulations, has initiated this administrative review.

¹¹ In the initiation notice that published on January 3, 2023 (88 FR 50), Commerce inadvertently did not identify all the companies in cross-owned entities for which an administrative review was requested. Also, certain companies were inadvertently wrongly identified as belonging to a single cross-owned entity. The companies identified herein represent the complete list of companies under review.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹² available at www.govinfo.gov/content/pkg/FR-2013-07-17/pdf/2013-17045.pdf, prior to submitting factual information in this segment. Note that Commerce has temporarily modified certain of its requirements for serving documents containing business proprietary information, until further notice.¹³

¹² See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹³ See Temporary Rule Modifying AD/CVD Service Requirements Due to COVID-19; Extension of Effective Period, 85 FR 41363 (July 10, 2020).

Any party submitting factual information in an AD or CVD proceeding must certify to the accuracy and completeness of that information using the formats provided at the end of the Final Rule.¹⁴ Commerce intends to reject factual submissions in any proceeding segments if the submitting party does not comply with applicable certification requirements.

¹⁴ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁵ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁵ See 19 CFR 351.302.

These initiations and this notice are in accordance with section 751(a) of the Act (19 U.S.C. 1675(a)) and 19 CFR 351.221(c)(1)(i).

Dated: March 9, 2023.
James Maeder,
Deputy Assistant Secretary for Antidumping and Countervailing Duty Operations.

[FR Doc. 2023-05199 Filed 3-13-23; 8:45 am]

BILLING CODE 3510-DS-P